DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Export Administration (BXA).

Title: Procedure for Voluntary Self-Disclosure of Violations.

Agency Form Number: None.

OMB Approval Number: 0694-0058.

Type of Request: Extension of a currently approved collection of information.

Burden: 800 hours.

Average Time Per Response: 10 hours per response.

Number of Respondents: 80 respondents.

Needs and Uses: BXA codified its voluntary self-disclosure policy to increase public awareness of this policy and to provide the public with a good idea of BXA's likely response to a given disclosure. Voluntary self-disclosures allow BXA to conduct investigations of the disclosed incidents faster than would be the case if BXA had to detect the violations without such disclosures.

Affected Public: Individuals, businesses or other for-profit institutions.

Respondent's Obligation: Voluntary.

OMB Desk Officer: David Rostker.

Copies of the above information collection proposal can be obtained by calling or writing Madeleine Clayton, DOC Paperwork Clearance Officer, (202) 482-3129, Department of Commerce, Room 6086, 14th and Constitution Avenue, NW., Washington, DC 20230.

Written comments and recommendations for the proposed information collection should be sent within 30 days of publication of this notice to David Rostker, OMB Desk Officer, Room 10202, New Executive Office Building, Washington, DC 20230.

Dated: July 12, 2001.
Madeleine Clayton,
Departmental Paperwork Clearance Officer, Office of the Chief Information Officer.

[FR Doc. 01-17780 Filed 7-16-01; 8:45 am]

BILLING CODE 3510-DT-P